ENVIRONMENTAL PROTECTION AGENCY

[ER-FRL-9043-9]

Environmental Impact Statements; Notice of Availability

Responsible Agency: Office of Federal Activities, General Information 202-564-5632 or https://www.epa.gov/nepa/.

Weekly receipt of Environmental Impact Statements Filed 03/11/2019 Through 03/15/2019 Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190033, Final, BLM, AZ,Sonoran Valley Parkway Project,Review Period Ends: 04/22/2019,Contact: Ben Parsons 623-580-5681.

EIS No. 20190034, Final, FERC, TX,Texas LNG Project-Texas LNG Brownsville LLC,Review Period Ends: 04/22/2019,Contact: Office of External Affairs 866-208-3372.

EIS No. 20190035, Draft, USACE, FL,Loxahatchee River Watershed Restoration Plan Draft Integrated Project Implementation Report and Environmental Impact Statement,Comment Period Ends: 05/06/2019,Contact: Dr. Ann B. Hodgson 904-232-3691.

Amended Notice

EIS No. 20180336, Draft, FHWA, NY,Van Wyck Expressway Capacity and Access Improvements to JFK Airport,Comment Period Ends: 04/01/2019,Contact: Hans Anker 518-431-8896,Revision to FR Notice Published 02/01/2019; Extending the Comment Period from 03/18/2019 to 04/01/2019.

EIS No. 20190011, Draft, BLM, NV,Gemfield Mine Project,Comment Period Ends: 04/22/2019,Contact: Kevin Hurrell 775-635-4000,Revision to FR Notice Published 02/15/2019; Extending the Comment Period from 04/10/2019 to 04/22/2019.

Dated: March 18, 2019.
Robert Tomiak,
Director,Office of Federal Activities.

[FR Doc. 2019-05417 Filed 3-21-19; 8:45 am]

BILLING CODE 6560-50-P